DEPARTMENT OF ENERGY

Federal Energy Regulatory Commission

[Docket No. RD20-4-000]

Commission Information Collection Activities (FERC-725A, FERC-725D, FERC-725F, FERC-725G, FERC-725L, and FERC-725Z); Comment Request; Revision

AGENCY: Federal Energy Regulatory Commission, Department of Energy.

ACTION: Notice of revised information collections and request for comments.

SUMMARY: In compliance with the requirements of the Paperwork Reduction Act of 1995, the Federal Energy Regulatory Commission (Commission or FERC) is soliciting public comment on revisions to the information collections, FERC-725A (Mandatory Reliability Standards for the Bulk-Power System), FERC-725D (Facilities Design, Connections and Maintenance Reliability Standards), FERC-725F (Mandatory Reliability Standard for Nuclear Plant Interface Coordination), FERC-725G (Reliability Standards for the Bulk Power System: PRC Reliability Standards), FERC-725L (Mandatory Reliability Standards for the Bulk-Power System: MOD Reliability Standards), and FERC-725Z (Mandatory Reliability Standards: IRO Reliability Standards), in Docket No. RD20-4-000 and will be submitting them to the Office of Management and Budget (OMB) for review of the respective information collection requirements.

DATES: Comments on the collections of information are due September 22, 2020.

ADDRESSES: You may submit comments identified by Docket No. RD20-4-000 by either of the following methods:

• eFiling at Commission's Website: http://www.ferc.gov/docs-filing/efiling.asp.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions: All submissions must be formatted and filed in accordance with submission guidelines at: http://www.ferc.gov/help/submission-guide.asp. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, and telephone at (202) 502-8663.

SUPPLEMENTARY INFORMATION:

Titles: FERC-725A, Mandatory Reliability Standards for the Bulk-Power System; FERC-725D, Facilities Design, Connections and Maintenance Reliability Standards; FERC-725F, Mandatory Reliability Standard for Nuclear Plant Interface Coordination; FERC-725G, Reliability Standards for the Bulk Power System: PRC Reliability Standards; FERC-725L, Mandatory Reliability Standards for the Bulk-Power System: MOD Reliability Standards; and FERC-725Z, Mandatory Reliability Standards: IRO Reliability Standards.

OMB Control Nos.: 1902-0244 (FERC-725A); 1902-0247 (FERC-725D); 1902-0249 (FERC-725F); 1902-0252 (FERC-725G); 1902-0261 (FERC-725L); and 1902-0276 (FERC-725Z)

Type of Request: Revisions to FERC-725A, FERC-725D, FERC-725F, FERC-725G, FERC-725L, and FERC-725Z information collection requirements, as discussed in Docket No. RD20-4-000.

Abstract: The North American Electric Reliability Corporation (NERC) filed a petition to modify seven Reliability Standards.

On February 21, 2020, NERC filed a petition in Docket No. RD20-4-000 ¹ requesting Commission approval of:

¹ The petition and exhibits are posted in the Commission's eLibrary system in Docket No. RD20-4-000 (Standards Alignment with Registration Petition).

• Reliability Standard TOP-003-4 (Operational Reliability Data),

• Reliability Standard FAC-002-3 (Facility Interconnection Studies),

• Reliability Standard NUC-001-4 (Nuclear Plant Interface Coordination),

• Reliability Standard PRC-006-4 (Automatic Underfrequency Load Shedding),

• Reliability Standard MOD-031-3 (Demand and Energy Data),

• Reliability Standard MOD-033-2 (Steady-State and Dynamic System Model Validation), and

• Reliability Standard IRO-010-3 (Reliability Coordinator Data Specification and Collection)

NERC is requesting approval of the seven proposed Reliability Standards pursuant to Section 215(d)(1) of the Federal Power Act (“FPA”) ² and § 39.5 ³ of the Federal Energy Regulatory Commission's (“FERC” or “Commission”) regulations. The revisions in the proposed Reliability Standards will align these standards with the previously-approved changes to the NERC registration criteria ⁴ by removing reference to entities ⁵ that are no longer registered with NERC. In proposed Reliability Standard PRC-006-4, NERC adds the UFLS-only Distribution Provider as an applicable entity. In two instances, NERC has proposed changes that will promote consistent use of the term Planning Coordinator across the Reliability Standards.⁶

² 16 U.S.C. 824o (2018).

³ 18 CFR 39.5 (2019).

⁴ Order on Electric Reliability Organization Risk Based Registration Initiative and Requiring Compliance Filing, 150 FERC ¶ 61,213 (2015); Order on Compliance Filing, 153 FERC ¶ 61,024 (2015).

⁵ NERC's risk-based registration initiative resulted in the removal of the load-serving entity and purchasing-selling entity from the NERC compliance registry.

⁶ Standards Alignment with Registration Petition at 7.

The Commission's request to OMB will reflect the following:

• Elimination of the burden associated with the load-serving entity (LSE) function in Requirement R5 of proposed Reliability Standard TOP-003-4.⁷ The petition states that the currently effective standard is applicable to the transmission operator, balancing authority, generator owner, generator operator, load-serving entity, transmission owner, and distribution provider. As the load-serving entity is no longer a NERC registration category, NERC proposes to remove this entity from the applicability section of proposed Reliability Standard TOP-003-4 and remove reference to this entity in Requirement R5.⁸

⁷ The burden associated with the current version of this standard, TOP-003-3, is included in FERC-725A.

⁸ Standards Alignment with Registration Petition at 14.

• Elimination of the burden associated with the load-serving entity (LSE) function in Requirement R3 of proposed Reliability Standard FAC-002-3.⁹ The NERC petition states as the load-serving entity is no longer a NERC registration category, NERC proposes to remove this entity from the applicability section of proposed Reliability Standard FAC-002-3 and remove reference to this entity in Requirement R3.¹⁰

⁹ The burden associated with the current version of this standard, FAC-002-2, is included in FERC-725D.

¹⁰ Standards Alignment with Registration Petition at 8.

• Removal of the load-serving entity (LSE) function in the applicability section of proposed Reliability Standard NUC-001-4.¹¹ The NERC petition states as the load-serving entity is no longer a NERC registration category, NERC proposes to remove this entity from the list of applicable transmission entities in the applicability section of proposed Reliability Standard NUC-001-4.¹² Removing this function from the list of transmission entities will not change the estimated burden associated with this standard.

¹¹ The burden associated with the current version of this standard, NUC-001-3, is included in FERC-725F.

¹² Standards Alignment with Registration Petition at 12.

• Addition of the burden associated with UFLS-only distribution providers to proposed Reliability Standard PRC-006-4.¹³ The petition states that the currently effective standard is applicable to planning coordinators, “UFLS entities” (which may include transmission owners and distribution providers that own, operate, or control UFLS equipment), and transmission owners that own certain elements. In proposed Reliability Standard PRC-006-4, NERC proposes to add the UFLS-only distribution provider as an applicable UFLS entity.¹⁴

¹³ The burden associated with the Commission approved standard, PRC-006-2, is included in FERC-725G. The current version of this standard, PRC-006-3, was adopted by the NERC Board of Trustees on August 10, 2017. Reliability Standard PRC-006-3 was not submitted to the Commission for approval because it is identical to the Commission-approved version, PRC-006-2. The only change was a revision to the regional variance for the Quebec Interconnection and does not impact the requirements for entities in the United States.

¹⁴ Standards Alignment with Registration Petition at 13.

• Elimination of the burden associated with the load-serving entity (LSE) function in Requirement R1 of proposed Reliability Standard MOD-031-3.¹⁵ The NERC petition states as the load-serving entity is no longer a NERC registration category, NERC proposes to remove this entity from the applicability section of proposed Reliability Standard MOD-031-3 and remove reference to this entity in Requirement R1, Part 1.1, where it is listed as an “Applicable Entity” for purposes of Requirements R2 and R4.¹⁶

¹⁵ The burden associated with the current version of this standard, MOD-031-2, is included in FERC-725L.

¹⁶ Standards Alignment with Registration Petition at 10.

Additionally, NERC proposes to strike the term “Planning Authority” from the applicability section of the standard and the explanatory text that follows. The preferred terminology for the responsible entity that coordinates and integrates transmission facilities and service plans, resource plans, and protection systems is “Planning Coordinator.” ¹⁷ This is a terminology change and will not result in a change in burden.

¹⁷ Standards Alignment with Registration Petition at 10.

• Modification of the term “Planning Authority” to “Planning Coordinator” in proposed Reliability Standard MOD-033-2.¹⁸ In the petition, NERC proposes to strike the term “Planning Authority” from the applicability section of the standard and the explanatory text that follows. The proposed change is intended to promote consistent use of “Planning Coordinator” throughout the Reliability Standards.¹⁹ This is a terminology change and will not result in a change in burden.

¹⁸ The burden associated with the current version of this standard, MOD-033-1, is included in FERC-725L.

¹⁹ Standards Alignment with Registration Petition at 11.

• Elimination of the burden associated with the load-serving entity (LSE) function in Requirement R3 of proposed Reliability Standard IRO-010-3.²⁰ The NERC petition states as the load-serving entity is no longer a NERC registration category, NERC proposes to remove this entity from the applicability section of proposed Reliability Standard IRO-010-3 and remove reference to this entity in Requirement R3.²¹

²⁰ The burden associated with the current version of this standard, IRO-010-2, is included in FERC-725Z.

²¹ Standards Alignment with Registration Petition at 9.

Type of Respondents: Reliability coordinator (RC), balancing authority (BA), transmission owner (TO), transmission operator (TOP), generator owner (GO), generator operator (GOP), distribution provider (DP), UFLS-only distribution provider (UFLS-only DP), planning coordinator (PC), and transmission planner (TP).

Estimate of Annual Burden: ²² The Commission based its estimates on the NERC compliance registry as of April 10, 2020. According to the registry, there are 12 reliability coordinators, 98 balancing authorities, 314 distribution providers, 63 UFLS-only distribution providers, 973 generator owners, 916 generator operators, 321 transmission owners, 169 transmission operators, 64 planning coordinators, and 196 transmission planners in the United States. NERC registered entities can be registered as multiple functions, and the burden estimates reflect the overlapping of functions per entity respondent.

²² Burden is defined as the total time, effort, or financial resources expended by persons to generate, maintain, retain, or disclose or provide information to or for a Federal agency. For further explanation of what is included in the information collection burden, refer to 5 CFR 1320.3.

Changes Due to Docket No. RD20-4

The changes proposed in Docket No. RD20-4-000 include the removal of load-serving entity from the applicability of five Reliability Standards; addition of UFLS-only distribution provider in one Reliability Standard; and a terminology change of “planning authority” to “planning coordinator” in the applicability of two Reliability Standards. The load-serving entity function was removed from the NERC compliance registry in October 2015 as a result of the risk-based registration order.²³ Prior to the removal of the load-serving entity function, the NERC compliance registry in early 2015 included 446 registered load-serving entities, however, many of these entities were also registered as other functions and remained on the registry. NERC deregistered 63 load-serving entities from the compliance registry on October 15, 2015, coinciding with the Commission approval of NERC's risk-based registration initiative.²⁴

²³ Order on Electric Reliability Organization Risk Based Registration Initiative and Requiring Compliance Filing, 150 FERC ¶ 61,213 (2015); Order on Compliance Filing, 153 FERC ¶ 61,024 (2015).

²⁴ NERC posts its list of deregistered entities at the following link. https://www.nerc.com/pa/comp/Registration%20and%20Certification%20DL/NCR%20Deregistered%20Entities.xls.

The proposed Reliability Standard NUC-001-4 modification of removing the load-serving entity from its applicability is not a substantive change and does not require a change in burden. This is due to the current burden assumptions based on: (1) The number of nuclear plants in the United States, and (2) applicability including two transmission entities ²⁵ for each nuclear plant. The removal of load-serving entity from the list of possible transmission entities does not change these assumptions.

²⁵ The current Reliability Standard NUC-001-3 defines the phrase “transmission entities” as all entities that are responsible for providing services related to nuclear plant interface requirements (NPIRs). Such entities may include one or more of the following: transmission operators, transmission owners, transmission planners, transmission service providers, balancing authorities, reliability coordinators, planning coordinators, distribution providers, load-serving entities, generator owners, and generator operators.

The Commission staff estimates the program changes, due to Docket No. RD20-4, for the listed information collections. Because the affected Reliability Standards were implemented at various times since Order No. 693 in March 2007, using the hourly cost estimates in effect at that time, we are being conservative and not showing cost estimates for the changes.

Adjustments, Updates, and Clarification of Estimates (Not Due to Docket No. RD20-4)

In addition to the changes identified in Docket No. RD20-4-000, the Commission is updating the entire burden estimates for six of the Reliability Standards. These adjustments are warranted based on updates to the number of applicable registered entities and to ensure that the burden for each applicable function is quantified with clear granularity.

The table also includes adjustments due to normal industry fluctuations (e.g., companies merging or splitting, going into or leaving the industry, or filling more or fewer roles in the NERC registry); the figures are based on the NERC registry as of April 10, 2020.

Proposed Changes to Burden Due to Docket No. RD20-4-000 and Adjustments and Clarifications ²⁶
Reliability standard & requirements | Number of respondents & type of entity | Annual number of responses per respondent | Annual number of responses | Average burden hrs. per response | Total annual burden hours
| (1) | (2) | (1) * (2) = (3) | (4) | (3) * (4) = (5)
FERC-725A, OMB Control No. 1902-0244
TOP-003-4 (Operational Reliability Data), R1-R5, & Evidence Retention—adjustment | −3 (TOP & BA) | 1 | −3 | 230 hrs | −690 hrs.
TOP-003-4 (Operational Reliability Data), R5 &Evidence Retention—program increase ²⁷ | 1,363 (GO, GOP, TO & DP) | 1 | 1,363 | 8 hrs | 10,904 hrs.
Net Sub-Total for FERC-725A |  |  | 1,360 (net increase) |  | 10,214 hr. (net increase).
FERC-725D, OMB Control No. 1902-0247
FAC-002-3 (Facility Interconnection Studies) R1 Study—adjustment | +20 (PC & TP) | 1 | +20 | 32 hrs | 640 hrs.
FAC-002-3 (Facility Interconnection Studies) R1 Evidence Retention—adjustment | +20 (PC & TP) | 1 | +20 | 1 hr | 20 hrs.
FAC-002-3 (Facility Interconnection Studies) R2-R5 Coordination—(program decrease & adjustment decrease) ²⁸ | −93 (TO, GO & DP) ²⁹ | 1 | −93 | 16 hrs | −1,488 hrs.
FAC-002-3 (Facility Interconnection Studies) R2-R5 Evidence Retention—(program decrease & adjustment decrease) ³⁰ | −93(TO, GO & DP) | 1 | −93 | 1 hr | −93 hrs.
Net Sub-Total for FERC-725D |  |  | −146 (net reduction) |  | −921 hrs. (net reduction).
FERC-725G, OMB Control No. 1902-0252
PRC-006-4 (Automatic Underfrequency Load Shedding) Reporting Requirement—program decrease ³¹ | −80 (TO & DP) | 1 | −80 | 47 hrs | −3,760 hrs.
PRC-006-4 (Automatic Underfrequency Load Shedding) Evidence Retention—program decrease ³¹ | −80 (TO & DP) | 1 | −80 | 5 hrs | −400 hrs.
PRC-006-4 (Automatic Underfrequency Load Shedding) R1-R7, R11-R15 Reporting Requirement—program increase & clarification ³² | 64 (PC) | 1 | 64 | 47 hrs | 3,008 hrs.
PRC-006-4 (Automatic Underfrequency Load Shedding) R1-R7, R11-R15 Evidence Retention-program increase & clarification ³² | 64 (PC) | 1 | 64 | 5 hrs | 320 hrs.
PRC-006-4 (Automatic Underfrequency Load Shedding) R8-R10 Evidence Retention—program increase & clarification ³³ | 478 (TO, DP, UFLS-only DP) | 1 | 478 | 5 hrs | 2,390 hrs.
Net Sub-Total for FERC-725G |  |  | 446 (net increase) |  | 1,558 hrs. (net increase).
FERC-725L, OMB Control No. 1902-0261
MOD-031-3 (Demand and Energy Data) Develop summary in accordance w/R1, Subparts 1.5.4 and 1.5.5.—program decrease & adjustment/clarification ³⁴ | −561 (DP, LSE, TP & BA) | 1 | −561 | 8 hrs | −4,488 hrs.
MOD-031-3 (Demand and Energy Data) Develop data request in accordance w/R1 and R3 & Evidence Retention—adjustment/clarification ³⁵ | 113 (PC & BA) | 1 | 113 | 8 hrs | 904 hrs.
MOD-031-3 (Demand and Energy Data) Develop and provide data in accordance w/R2 and R4 & Evidence Retention—adjustment/clarification ³⁴ | 381 (TP, BA & DP) | 1 | 381 | 8 hrs | 3,048 hrs.
MOD-033-2 (Steady-State Dynamic System Model Validation) R2 Data Submittal [for R2]—adjustment | −14 (RC & TOP) ³⁶ | 1 | −14 | 8 hrs | −112 hrs.
MOD-033-2 (Steady-State Dynamic System Model Validation),R1-R2, Evidence Retention, adjustment | −14 (PC, RC & TOP) ³⁷ | 1 | −14 | 1 hr | −14 hrs.
Net Sub-Total for FERC-725L |  |  | −95 (net reduction) |  | −662 hrs.; (net reduction).
FERC-725Z, OMB Control No. 1902-0276
IRO-010-3 (Reliability Coordinator Data Specification and Collection) R1-R3 Evidence Retention—adjustment | +1 (RC) | 1 | 1 | 36 hrs | +36 hrs.
IRO-010-3 (Reliability Coordinator Data Specification and Collection), R3 &Evidence Retention—adjustment/clarification ³⁸ | 1,388 (BA, GO, GOP, TOP, TO & DP) | 1 | 1,388 | 8 hrs | 11,104 hrs.
Net Sub-Total for FERC-725Z |  |  | 1,389 (net increase) |  | 11,140 hrs.; (net increase).
Net Total Program Changes ³⁹ |  |  |  |  | +8,812 hrs.
Net Total Adjustments, |  |  |  |  | +12,517 hrs.
Total Net Changes (Including Program Changes and Adjustments) ³⁹ |  |  |  |  | +21,329 hrs.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

²⁶ The adjustments, due to normal industry fluctuations, are based on figures in the NERC registry as of April 10, 2020.

²⁷ This is not a program change (increase) due to Docket No. RD20-4. Rather, we are correcting an earlier oversight. It appears that the estimated burden figures for the GO, GOP, TO and DP were inadvertently omitted from the package submitted to and approved by OMB related to the Final Rule (Order No. 817, issued 11/19/2015) in Docket No. RM15-16. The number of respondents is the current figure based on the NERC registry.

²⁸ The reduction of 93 respondents and corresponding burden hours include 63 LSEs that were de-registered (program decrease of 1,008 hrs.) and an adjustment decrease of 30 respondents (480 hrs.) due to normal industry fluctuations.

Out of the total decrease of 1,488 hours, the program decrease of 1,008 hours [corresponding decrease of 63 responses] is due to Docket No. RD20-4. The reduction of 480 hours is due to normal adjustments.

²⁹ Although 1,232 entities are registered as TO, DP, or GO, we expect at the most 123 entities (ten percent) will seek to interconnect and go through the study phase that may require coordination in any given year.

³⁰ The reduction of 93 respondents and corresponding burden hours include 63 LSEs that were de-registered (program decrease of 63 hrs., due to Docket No. RD20-4) and an adjustment decrease of 30 respondents (30 hrs.) due to normal industry fluctuations.

³¹ The number of entities is being reduced in order to more clearly identify the applicable entities in subsequent rows in this table. As stated in the NERC Petition, “[t]he currently effective standard is applicable to Planning Coordinators, “UFLS entities” (which may include Transmission Owners and Distribution Providers that own, operate, or control UFLS equipment), and Transmission Owners that own certain Elements. In proposed Reliability Standard PRC-006-4, NERC proposes to add the UFLS-Only Distribution Provider as an applicable UFLS entity, consistent with the language in Section III(b) of Appendix 5B of the NERC Rules of Procedure (Statement of Compliance Registry Criteria) that the Reliability Standards applicable to UFLS-Only Distribution Providers includes prior effective versions of the PRC-006 standard.” The changes are not due to Docket No. RD20-4.

³² The increases are not due to Docket No. RD20-4. They are a program increase of 64 PCs (and the corresponding hrs.) in order to correct and clarify the estimates.

³³ The program increase is due to adding 63 UFLS-only DPs due to Docket No. RD20-4. In addition, 415 TOs and DPs were originally estimated in FERC-725A due to Order No. 693. However, the estimates and descriptions were not clearly spelled out, so we are clarifying them. As a result, there are 315 hours (63*5 hours) and the corresponding increase of 63 respondents of program increase due to Docket No. RD20-4, and 2,075 hours (415*5 hours) of increase due to adjustment.

³⁴ The estimates reflect a program decrease of 63 de-registered LSEs (and corresponding program decrease of 504 hrs.) related to Docket No. RD20-4, and an adjustment/clarification (decrease) of 498 DPs, TPs, and BAs (and corresponding decrease of 3,984 hrs.), not related to Docket No. RD20-4. The updated number of 381 DPs, TPs and BAs is listed in a new row clarifying their applicability with Requirements R2 and R4. Requirement R2 requires applicable entities to develop and provide data pursuant with Requirement R1.

³⁵ The 113 PCs and BAs were originally estimated in FERC-725A due to Order No. 693. However, the estimates and descriptions were not clearly spelled out, so we are clarifying them. [Some of this burden may still be in FERC-725A (and double counted temporarily).]

³⁶ The estimate is changing to 174 (from 188) due to normal industry fluctuation.

³⁷ The estimate is changing to 188 (from 194) due to normal industry fluctuation.

³⁸ The original Reliability Standard IRO-010-1a was included in Order No. 748 (Docket No. RM10-15) under FERC-725A. The burden for 11 RCs for IRO-010-2 (Order No. 817 in Docket No. RM15-16) was covered by FERC-725Z. Some of this burden may still be in FERC-725A (and double counted temporarily). This action is an adjustment and not related to Docket No. RD20-4.

³⁹ The net total program changes due to Docket No. RD20-4 result in a decrease of 1,260 hours and decrease of 126 respondents.

Dated: July 17, 2020.
Nathaniel J. Davis, Sr.,
Deputy Secretary.

[FR Doc. 2020-15977 Filed 7-23-20; 8:45 am]

BILLING CODE 6717-01-P